DEPARTMENT OF EDUCATION

RIN 1820-ZA36

National Institute on Disability and Rehabilitation Research

AGENCY: Office of Special Education and Rehabilitative Services, Department of Education.

ACTION: Notice of proposed priorities for knowledge dissemination and utilization projects.

SUMMARY: The Assistant Secretary for Special Education and Rehabilitative Services proposes priorities for three knowledge dissemination and utilization projects under the National Institute on Disability and Rehabilitation Research (NIDRR) Disability and Rehabilitation Research Projects (DRRP) Program. The Assistant Secretary may use these priorities for competitions in fiscal year (FY) 2005 and later years. We take this action to focus attention on an identified national need. We intend these priorities to improve rehabilitation outcomes for individuals with disabilities.

DATES: We must receive your comments on or before September 27, 2004.

ADDRESSES: Address all comments about this proposed priority to Donna Nangle, U.S. Department of Education, 400 Maryland Avenue, SW., Room 6030, Potomac Center Plaza, Washington, DC 20202-2600. If you prefer to send your comments through the Internet, use the following address: donna.nangle@ed.gov.

FOR FURTHER INFORMATION CONTACT: Donna Nangle. Telephone: (202) 245-7462.

If you use a telecommunications device for the deaf (TDD), you may call the the Federal Information Relay Service (FIRS) at 1-800-877-8339 or via Internet: donna.nangle@ed.gov.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities. To ensure that your comments have maximum effect in developing the notice of final priorities, we urge you to identify clearly the specific proposed priority or topic that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 6032, 550 12th Street, SW., Potomac Center Plaza, Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or funding additional priorities, subject to meeting applicable rulemaking requirements.

Note: This notice does not solicit applications. In any year in which we choose to use any of these proposed priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom/.

These proposed priorities are in concert with NIDRR's 1999-2003 Long-Range Plan (Plan). The Plan is comprehensive and integrates many issues relating to disability and rehabilitation research topics. While applicants will find many sections throughout the Plan that support the activities to be conducted under these proposed priorities, specific references are included for the topics presented in this notice. The Plan can be accessed on the Internet at the following site: http://www.ed.gov/rschstat/research/pubs/index.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Disability and Rehabilitation Research Projects (DRRP) Program

The purpose of the DRRP Program is to plan and conduct research, demonstration projects, training, and related activities that help to maximize the full inclusion and integration of individuals with disabilities into society and to improve the effectiveness of services authorized under the Rehabilitation Act of 1973, as amended (Act).

Under the DRRP program, we define a development activity as using knowledge and understanding gained from research to create materials, devices, systems, or methods beneficial to the target population, including design and development of prototypes and processes. We define a dissemination activity as the systematic distribution of information or knowledge through a variety of ways to potential users or beneficiaries. We define a technical assistance activity as the provision of expertise or information for use in problem-solving.

Background

Priorities

Knowledge Dissemination and Utilization (KDU) projects ensure widespread distribution, in usable formats, of practical scientific and technological information generated by research, development, and demonstration projects. The effective dissemination and utilization of disability and rehabilitation research results are critical to achieving NIDRR's mission. Research findings can improve the quality of life of people with disabilities and further their full inclusion into society. These benefits are feasible only if the findings and technologies are available to, known by, and accessible to potential users.

NIDRR is particularly interested in ensuring that information to be disseminated is of high quality and is based on scientifically rigorous research and development and that potential users have the information they need to judge the quality of research and development findings and products and the relevance of these findings and products to their particular needs. End-users with limited scientific training, in particular, may need assistance in order to understand competing research claims or determine the relevance of particular findings to their individual situations. In addition, given the nature of scientific study, practical information often is based on cumulative knowledge, not upon the results of any one study. Therefore, we encourage potential applicants to examine procedures used by such organizations as the Campbell Collaboration (http://www.campbellcollaboration.org/), the Cochrane Collaboration (http://www.cochrane.org/), and the Department of Education What Works Clearinghouse (http://www.w-w-c.org/) when designing synthesis and dissemination activities.

Proposed Priorities

The Assistant Secretary for Special Education and Rehabilitative Services proposes to fund up to three DRRPs to develop dissemination methods and provide technical assistance that focus on innovative knowledge sharing solutions to improve the lives of persons with disabilities. The goal of the projects is to provide end-users with the information they need to make choices based on high-quality scientific research and development. Under each of these topics, the KDU project must:

(1) Identify topic areas and target audiences, which must include people with disabilities and their families;

(2) Develop standards to guide the systematic review and synthesis of disability and rehabilitation research and development studies;

(3) Identify or develop effective outreach strategies for the target audiences;

(4) Develop research syntheses in selected topic areas and make this information available, in preferred formats, to the target audiences; and

(5) Develop cost-effective outreach strategies to provide target audiences with research-based information, and determine whether and how the information is used.

In carrying out these project requirements, in consultation with the NIDRR project officer, each project must:

• Involve, as appropriate, individuals with disabilities or their family members, or both, in all aspects of the design and development of dissemination activities;

• Demonstrate how the project will yield measurable results for people with disabilities; and

• Identify specific performance targets and propose outcome indicators, along with timelines to reach these targets.

A project must focus on one of the following priority topic areas:

(a) Dissemination Using the Mainstream Media: The purpose of a project under this topic area is to improve dissemination of disability and rehabilitation research and development information via the mainstream media and the disability press. Chapter 8 of the Plan calls upon NIDRR to “address general audiences that influence the opportunities available to people with disabilities. These general audiences include: Employers, manufacturers, educators at all levels, economic development and planning personnel, service establishments, the media and policy makers at local, state and national levels”. Dissemination of research and development information through the mainstream media—e.g., newspapers, popular magazines, radio, television, and internet news and information sites—has the promise of being an effective means of communication to these diverse audiences. To provide information that ultimately will be used by the media, the grantee must work with representatives from the mainstream media and with researchers to establish strategies for providing timely information on research and development activities and findings to the media.

The reference to this topic may be found in the Plan, Chapter 8, Knowledge Dissemination and Utilization, and Chapter 10, Enhancing NIDRR's Management of Research.

(b) International Exchange of Information and Experts in Rehabilitation and Independent Living: The purpose of a project under this topic area is to improve the exchange of disability and rehabilitation research and development information between the United States and other countries in order to develop new knowledge and methods in the rehabilitation of individuals with disabilities in the United States, share information found useful in other nations, and increase the skill levels of rehabilitation personnel. This project must:

• Develop innovative methods for compiling and exchanging information between the United States and other nations on rehabilitation research and development, as well as information on disability policies that maximize the full inclusion, social integration, employment, and independent living of individuals of all ages with disabilities.

• Provide targeted outreach to and obtain insight from researchers; consumers; and voluntary, non-profit, and philanthropic organizations that are operating programs related to disability and rehabilitation research in other nations.

• Conduct at least one rehabilitation research information conference per funding cycle involving participants from the United States and other countries to provide state-of-the-art information on international rehabilitation research efforts and policies that affect people with disabilities.

• Conduct an international exchange of researchers and technical assistance experts between other countries and the United States to provide firsthand experiences in cross-cultural communication and to form alliances for collaborative research or information sharing.

The reference to this topic may be found in the Plan, Chapter 10, Enhancing NIDRR's Management of Research.

(c) Innovative KDU for Disability and Professional Organizations and Stakeholders: The purpose of a project under this topic is to disseminate information on disability and rehabilitation research and development findings to a particular constituency by using organizations that serve that constituency as intermediaries. Such organizations, because they have established strategies for providing information to their constituencies—e.g., conferences, newsletters, and workshops—may represent an effective means of dissemination. The project must produce information digests that will be suitable for further dissemination through the partner organizations. The project must be knowledgeable about the target audiences represented by the organizations and must develop innovative means of communication with the publics served by the organizations. The project must serve as an information conduit for interactive discussions with the organizations that will help inform future NIDRR research priorities and disseminate the findings of NIDRR-sponsored research.

The reference to this topic may be found in the Plan, Chapter 8, Knowledge Dissemination and Utilization, and Chapter 10, Enhancing NIDRR's Management of Research.

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently.

In assessing the potential costs and benefits—both quantitative and qualitative—of this notice of proposed priorities, we have determined that the benefits of the proposed priorities justify the costs.

Summary of Potential Costs and Benefits

The potential costs associated with these proposed priorities are minimal, while the benefits are significant. Grantees may anticipate costs associated with completing the application process in terms of staff time, copying, and mailing or delivery. The use of e-Application technology reduces mailing and copying costs significantly.

The benefits of the DRRP Program have been well established over the years. Similar projects have been completed successfully and have produced findings that help improve the lives of individuals with disabilities. These proposed priority will generate new strategies for disseminating findings from disability and rehabilitation research and development that will improve the full integration of individuals with disabilities into society.

Applicable Program Regulations: 34 CFR part 350.

Electronic Access to This Document

You may view this document, as well as all other Department of Education documents published in the Federal Register, in text or Adobe Portable Document Format (PDF) on the Internet at the following site: http://www.ed.gov/news/fedregister. To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Project)
Program Authority: 29 U.S.C. 762(g) and 764(a).
Dated: August 24, 2004.
Troy R. Justesen,
Acting Deputy Assistant Secretary for Special Education and Rehabilitative Services.

[FR Doc. E4-1955 Filed 8-26-04; 8:45 am]

BILLING CODE 4000-01-P